DEPARTMENT OF THE INTERIOR

Fish and Wildlife Service

Migratory Bird Hunting; Draft Environmental Impact Statement on Light Goose Management

AGENCY: Fish and Wildlife Service, Interior.

ACTION: Notice of meetings.

SUMMARY: The U.S. Fish and Wildlife Service (Service) has prepared a Draft Environmental Impact Statement (DEIS) on light goose management which is available for public review. The DEIS analyzes the potential environmental impacts of several management alternatives for addressing problems associated with overabundant light goose populations. The Service is issuing this notice to invite further public participation in the review process, identify the location, date, and time of public hearings, and identify the Service official to whom questions and comments may be directed.

DATES: Written comments regarding the DEIS should be submitted by December 14, 2001, to the address below. Dates for eight public scoping meetings are identified in the SUPPLEMENTARY INFORMATION section.

ADDRESSES: Requests for copies of the DEIS should be mailed to Chief, Division of Migratory Bird Management, U.S. Fish and Wildlife Service, Department of the Interior, ms 634—ARLSQ, 1849 C Street NW., Washington, DC 20240. Copies of the DEIS can be downloaded from the Division of Migratory Bird Management Web site at http://migratorybirds.fws.gov/issues/snowgse/tblcont.html. Comments on the DEIS should be sent to the above address. Alternatively, comments may be submitted electronically to the following address: white_goose_eis@fws.gov. Locations for eight public hearings are identified in the SUPPLEMENTARY INFORMATION section.

FOR FURTHER INFORMATION CONTACT: Jon Andrew, Chief, Division of Migratory Bird Management, (703) 358-1714; or James Kelley (612) 713-5409.

SUPPLEMENTARY INFORMATION: On May 13, 1999, a notice was publish in the Federal Register (64 FR 26268) announcing that the Service intended to prepare an Environmental Impact Statement addressing problems associated with overabundant light goose populations. Comments were received and considered and are reflected in the DEIS. On October 5, 2001, we notified the public of the availability of the DEIS in the Federal Register (66 FR 51274). In our October 5, 2001 notice we indicated that the comment period would end on November 28, 2001. Due to the timing of public hearings, we have extended the comment period on the DEIS to December 14, 2001. This notice is provided pursuant to Fish and Wildlife Service regulations for implementing the National Environmental Policy Act of 1969 (40 CFR 1506.6).

Public Scoping Meetings

Eight public hearings will be held on the following dates at the indicated locations and times:

1. November 13, 2001; Washington, DC at the Auditorium of the Department of the Interior Building, 1849 C Street NW., 9 a.m. to 11:30 a.m.

2. November 13, 2001; Dover, DE at the Richardson and Robbins Auditorium, Delaware Department of Natural Resources and Environmental Control, 89 Kings Highway, 7 p.m. to 9:30 p.m.

3. November 27, 2001; Bismarck, ND at the North Dakota Game and Fish Department Auditorium, 100 N. Bismarck Expressway, 7 p.m. to 9:30 p.m.

4. November 28, 2001; Bloomington, MN at the Minnesota Valley National Wildlife Refuge Visitors Center, 3815 East 80th Street, 7 p.m. to 9:30 p.m.

5. November 29, 2001; Egg Harbor Township, NJ at the Clarion Hotel and Convention Center, 6821 Black Horse Pike, 7 p.m. to 9:30 p.m.

6. December 5, 2001; Blue Springs, MO at the Auditorium of the Burr Oak Woods Nature Center, 1401 Northwest Park Road, 7 p.m. to 9:30 p.m.

7. December 12, 2001; Rosenberg, TX at the Texas Agricultural Extension Service Education Center, 1402 Band Road, 7:30 p.m. to 9:30 p.m.

8. December 13, 2001; Baton Rouge, LA at the Louisiana Room, First Floor, Louisiana Department of Wildlife and Fisheries Building, 2000 Quail Drive, 7 p.m. to 9:30 p.m.

In order to be considered, electronic submission of comments must include your name and postal mailing address; we will not consider anonymous comments. All comments received, including names and addresses, will become part of the public record. The public may inspect comments during normal business hours in Room 634—Arlington Square Building, 4401 N. Fairfax Drive, Arlington, Virginia. Requests for such comments will be handled in accordance with the Freedom of Information Act and the Council on Environmental Quality's National Environmental Policy Act regulations [40 CFR 1506.6(f)]. Our practice is to make comments available for public review during regular business hours. Individual respondents may request that we withhold their home address from the record, which we will honor to the extent allowable by law. If a respondent wishes us to withhold his/her name and/or address, this must be stated prominently at the beginning of the comment.

The DEIS evaluates four management alternatives to address habitat destruction and agricultural depredations caused by light geese on various breeding, migration, and wintering areas: (1) No action or continue to manage light goose populations through existing wildlife management policies and practices (Alternative A); (2) modify harvest regulation options and refuge management (Alternative B) (PREFERRED); (3) implement direct agency control of light goose populations on migration and wintering areas in the United States (Alternative C); (4) seek direct light goose population control on breeding grounds in Canada (Alternative D). Our preferred alternative (Alternative B) modifies existing light goose hunting regulations to expand methods of take during normal hunting season frameworks. In addition, we propose to create a conservation order to allow take of light geese outside of normal hunting season frameworks, authorize new methods of take, and allow shooting hours until one-half hour after sunset. We would also modify management practices on certain National Wildlife Refuges to alter the availability of food and sanctuary to light geese.

Dated: October 1, 2001.
Kevin Adams,
Director.

[FR Doc. 01-25611 Filed 10-11-01; 8:45 am]

BILLING CODE 4310-55-M